COMMODITY FUTURES TRADING COMMISSION

17 CFR Part 1

Changes in Divisional Structure and Delegations of Authority

Correction

In rule document 02-25049 beginning on page 62350, in the issue of Monday, October 7, 2002, make the following correction:

PART 1 — CORRECTED

On page 62353, in the first column, in amendatory instruction 3., in the first line, “1.4a” should read “1.41a”.

[FR Doc. C2-25049 Filed 10-15-02; 8:45 am]

BILLING CODE 1505-01-D

DEPARTMENT OF DEFENSE

Department of the Army; Corps of Engineers

Grant of Exclusive or Partially Exclusive Licenses

Correction

In notice document 02-25181 beginning on page 62039 in the issue of Thursday, October 3, 2002 make the following corrections:

1. On page 62040, in the first colunn, in paragraph 5., in the seventh line, “single” should read “suitable”.

2. On page 62041, in the third column, in paragraph 20., in the sixth line, “ratably” should read “rotatably”.

[FR Doc. C2-25181 Filed 10-15-02; 8:45 am]

BILLING CODE 1505-01-D

DEPARTMENT OF HEALTH AND HUMAN SERVICES

Centers for Medicare & Medicaid Services

42 CFR Part 460

[CMS-1201-IFC]

RIN 0938-AL59

Medicare and Medicaid Programs; Programs of All-inclusive Care for the Elderly (PACE); Program Revisions

Correction

In rule doccument 02-24858 beginning on page 61496 in the issue of Tuesday, October 1, 2002 make the following correction:

§460.26 [Corrected]

On page 61505, in the first column, in §460.26(b), subparagraph heading “(1)” was repeated and should read “ (2)”.

[FR Doc. C2-24858 Filed 10-15-02; 8:45 am]

BILLING CODE 1505-01-D

DEPARTMENT OF TRANSPORTATION

Federal Motor Carrier Safety Administration

49 CFR Part 393

[FMCSA Docket No. FMCSA-97-2289]

RIN 2126-AA27

Development of a North American Standard for Protection Against Shifting and Falling Cargo

Correction

In rule document 02-23693 beginning on page 61212 in the issue of Friday, September 27, 2002 make the following correction:

§393.124 [Corrected]

On page 61233, in the second column, in §393.124, in the second paragraph from the top, designated as “(a)” should read “(e)”.

[FR Doc. C2-23693 Filed 10-15-02; 8:45 am]

BILLING CODE 1505-01-D